DEPARTMENT OF TRANSPORTATION

Surface Transportation Board

[STB Finance Docket No. 34239]

St. Lawrence & Atlantic Railroad Company—Lease and Operation Exemption—Rail Lines of Fraser N.H. LLC

AGENCY: Surface Transportation Board, DOT.

ACTION: Notice of exemption.

SUMMARY: The Board grants an exemption under 49 U.S.C. 10502, from the prior approval requirements of 49 U.S.C. 11323-25, for St. Lawrence & Atlantic Railroad Company, a Class III rail carrier, to lease and operate over lines of Fraser N.H. LLC (Fraser), a Class III rail carrier, consisting of: (1) 5.5 miles of rail line between milepost 154.6 at Berlin, NH, and milepost 149.1 at Gorham, NH; and (2) 0.5 miles of rail line in the vicinity of Berlin, a total distance of 6.0 miles in Coos County, NH.

DATES: This exemption will be effective September 5, 2002. Petitions to reopen must be filed by September 25, 2002.

ADDRESSES: Send an original and 10 copies of pleadings referring to STB Finance Docket No. 34239 to: Surface Transportation Board, 1925 K Street, NW., Washington, DC 20423-0001. In addition, send one copy of pleadings to petitioner's representative: Kevin M. Sheys, Kirkpatrick & Lockhart LLP, 1800 Massachusetts Ave., NW., Suite 200, Washington, DC 20036.

FOR FURTHER INFORMATION CONTACT: Beryl Gordon, (202) 565-1600. [TDD for the hearing impaired: 1-800-877-8339.]

SUPPLEMENTARY INFORMATION: Additional information is contained in the Board's decision. To purchase a copy of the full decision, write to, call, or pick up in person from: Dá 2 Dá Legal Copy Service, Room 405, 1925 K Street, NW., Washington, DC 20006. Telephone: (202) 293-7776. [Assistance for the hearing impaired is available through the Federal Information Relay Service (FIRS) at 1-800-877-8339.]

Board decisions and notices are available on our Web site at “www.stb.dot.gov.”

Decided: August 28, 2002.
By the Board, Chairman Morgan and Vice Chairman Burkes.
Vernon A. Williams,
Secretary.

[FR Doc. 02-22543 Filed 9-04-02; 8:45 am]

BILLING CODE 4915-00-P